ENVIRONMENTAL PROTECTION AGENCY

40 CFR Part 52

[CA 036-REC; FRL-7056-5]

Corrections to the California State Implementation Plan

AGENCY: Environmental Protection Agency (EPA).

ACTION: Proposed rule.

SUMMARY: EPA is proposing to delete various local rules from the California State Implementation Plan (SIP) that were incorporated into the SIP in error. These primarily include rules concerning local fees, enforcement authorities, New Source Performance Standards (NSPS) and National Emission Standards for Hazardous Air Pollutants (NESHAP). EPA has determined that the continued presence of these rules in the SIP is potentially confusing and thus harmful to affected sources, local agencies and to EPA. The intended effect of this proposal is to delete these rules and make the SIP consistent with the Clean Air Act as amended in 1990 (CAA or the Act).

DATES: Any comments must arrive by October 15, 2001.

ADDRESSES: Mail comments to Andy Steckel, Rulemaking Office Chief (AIR-4), Air Division, U.S. Environmental Protection Agency, Region IX, 75 Hawthorne Street, San Francisco, CA 94105.

You may inspect copies of the rules to be deleted at our Region IX office during normal business hours. You may also see copies at the locations listed in SUPPLEMENTARY INFORMATION under “Public Inspection.”

FOR FURTHER INFORMATION CONTACT: Julie A. Rose, Rulemaking Office (AIR-4), Air Division, U.S. Environmental Protection Agency, Region IX, 75 Hawthorne Street, San Francisco, CA 94105; (415) 744-1184. Email: rose.julie@EPA.gov

SUPPLEMENTARY INFORMATION:

Public Inspection

California Air Resources Board

Stationary Source Division

Rule Evaluation Section

1001 “I” Street

Sacramento, CA 95814

Amador County Air Pollution Control District

500 Argonaut Lane

Jackson, CA 95642

Antelope Valley Air Pollution Control District

43301 Division Street, Suite 206

Lancaster, CA 93539-4409

Bay Area Air Quality Management District

939 Ellis Street

San Francisco, CA 94109

Butte County Air Quality Management District

2525 Dominic Drive, Suite J

Chico, CA 95928-7184

Calaveras County Air Pollution Control District

891 Mountain Ranch Road

San Andreas, CA 95249-9709

Colusa County Air Pollution Control District

100 Sunrise Blvd. Suite F

Colusa, CA 95932-3246

El Dorado County Air Pollution Control District

2850 Fairlane Court, Building C

Placerville, CA 95667-4100

Feather River Air Quality Management District

938—14th Street

Marysville, CA 95901-4149

Glenn County Air Pollution Control District

720 North Colusa Street

Willows, CA 95988-0351

Great Basin Unified Air Pollution Control District

157 Short Street, Suite 6

Bishop, CA 93514

Imperial County Air Pollution Control District

150 South Ninth Street

El Centro, CA 92243-2801

Kern County (Southeast Desert) Air Pollution Control District

2700 M. Street, Suite 302

Bakersfield, CA 93301-2370

Lake County Air Quality Management District

883 Lakeport Blvd.

Lakeport, CA 95453-5405

Lassen County Air Pollution Control District

175 Russell Avenue

Susanville, CA 96130-4215

Mariposa County Air Pollution Control District

5110 Bullion Street

Mariposa, CA 95338

Mendocino County Air Quality Management District

306 E. Gobbi Street

Ukiah, CA 95482

Modoc County Air Pollution Control District

202 W. Fourth Street

Alturas, CA 96101

Mojave Desert Air Quality Management District

14306 Park Avenue

Victorville, CA 92392-2310

Monterey Bay Unified Air Pollution Control District

24580 Silver Cloud Ct.

Monterey, CA 93940-6536

North Coast Unified Air Quality Management District

2300 Myrtle Avenue

Eureka, CA 95501-3327

Northern Sierra Air Quality Management District

200 Litton Drive, Suite 320

Grass Valley, CA 95945-2509

Northern Sonoma County Air Pollution Control District

150 Matheson Street

Healdsburg, CA 95448-4908

Placer County Air Pollution Control District

11464 B Avenue

Auburn, CA 95603

San Diego County Air Pollution Control District

9150 Chesapeake Drive

San Diego, CA 92123-1096

San Joaquin Valley Unified Air Pollution Control District

1990 East Gettysburg

Fresno, CA 93726

San Luis Obispo County Air Pollution Control District

3433 Roberto Court

San Luis Obispo, CA 93401-7126

Santa Barbara County Air Pollution Control District

26 Castilian Drive, B-23

Goleta, CA 93117

Shasta County Air Quality Management District

1855 Placer Street, Suite 101

Redding, CA 96001-1759

Siskiyou County Air Pollution Control District

525 South Foothill Drive

Yreka, CA 96097-3036

South Coast Air Quality Management District

21865 E. Copley Drive

Diamond Bar, CA 91765

Tehama County Air Pollution Control District

1750 Walnut Street

Red Bluff, CA 96080

Tuolumne County Air Pollution Control District

22365 Airport

Columbia, CA 95310

Ventura County Air Pollution Control District

669 County Square Drive

Ventura, CA 93003

Yolo-Solano Air Quality Management District

1947 Galileo Court, Suite 103

Davis, CA 95616

Throughout this document wherever “we,” “us,” or “our” are used, we mean EPA.

Table of Contents

I. Why is EPA proposing to correct the SIP?

II. What rules are proposed for deletion?

III. Proposed action, public comment and final action

IV. Administrative Requirements

I. Why Is EPA Proposing To Correct the SIP?

The Clean Air Act was first enacted in 1970. In the 1970s and early 1980s, thousands of state and local agency regulations were submitted to EPA for incorporation into the SIP in order to fulfill the new federal requirements. In many cases, states submitted entire regulatory air pollution programs, including many elements not required by the Act. Due to time and resource constraints, EPA's review of these submittals focussed primarily on the new substantive requirements and we approved many other elements into the SIP with minimal review.

We now recognize that many of these elements were not appropriate for approval into the SIP. In general, these elements are appropriate for state and local agencies to adopt and implement, but it is not necessary or appropriate to make them federally enforceable by incorporating them into the applicable SIP. These include:

A. Various local fee provisions that are not economic incentive programs and are not designed to replace or relax a SIP emission limit. While it is appropriate for local agencies to implement fee provisions, for example, to recover costs for issuing permits, it is generally not appropriate to make local fee collection federally enforceable.

B. Various provisions describing local agency investigative or enforcement authority such as some rules titled enforcement, authority to inspect, authority to arrest, violation notices, and orders for abatement. States may need to adopt such rules to demonstrate adequate enforcement authority under section 110(a)(2) of the Act, but they should not be approved into the applicable SIP to avoid potential conflict with EPA's independent authorities provided in sections 113, 114 and elsewhere.

C. Local adoption of federal NSPS requirements either by reference or by adopting text identical or modified from the requirements found in 40 CFR part 60. Since EPA has independent authority to implement 40 CFR part 60, it is not appropriate to make parallel local authorities federally enforceable by approving them into the applicable SIP.

D. Local adoption of NESHAP requirements found in 40 CFR part 61 as similarly discussed regarding NSPS.

II. What Rules Are Proposed for Deletion?

EPA has determined that the California rules listed in the tables below are inappropriate for inclusion in the SIP, but were previously approved into the SIP in error. Dates that these rules were submitted by the State and approved by EPA are provided. We are proposing deletion of these rules and any earlier versions of these rules from the individual air pollution control district portions of the California SIP under section section 110(k)(6) as inconsistent with the requirements of CAA section 110 and part D.

Rule | Title | Submittal date | Approval date
Amador County Air Pollution Control District
103 | Enforcement | 10/15/79 | 05/18/81
105 | Civil Action | 04/21/76 | 06/14/78
318 | Enforcement Responsibility | 10/16/85 | 04/17/87
319 | Penalty | 10/16/85 | 04/17/87
402 | Authority to Inspect | 10/15/79 | 05/18/81
509 | Authority to Inspect | 10/16/85 | 04/17/87
Reg. 6 | Fees (Rules 601 to 604) | 10/15/79 | 05/18/81
Antelope Valley Air Pollution Control District
302 | Fees for Publications | 02/03/83 | 11/18/83
304 | Analysis Fees | 02/03/83 | 10/19/84
Los Angeles County
42 | Hearing Board Fees | 06/06/77 | 09/08/78
43 | Analysis Fees | 06/30/72 | 09/22/72
44 | Technical Reports, Charges for | 06/30/72 | 09/22/72
45 | Permit Fees—Open Burning | 07/25/73 | 09/08/78
105 | Authority to Arrest | 06/06/77 | 09/08/78
120 | Fees | 06/30/72 | 09/22/72
Southern California APCD
105 | Authority to Arrest | 04/21/76 | 06/14/78
Bay Area Air Quality Management District
Reg. 3 | Fees | 08/30/83 | 05/03/84
| Fees—Schedules A through Schedule I | 08/30/83 | 05/03/84
Reg. 7 | New Source Performance Standards (01-13) | 01/10/75 | 05/11/77
Butte County Air Quality Management District
04-03 | Permit Fees | 04/11/83 | 11/18/83
04-11 | Appeal Fee | 04/11/83 | 11/18/83
05-03 | Application Fee | 04/11/83 | 11/18/83
701 | Violation of Rules | 02/10/86 | 02/03/87
702 | Violation of Orchard Heater or Open Burning Regulations | 02/10/86 | 02/03/87
703 | Citations | 02/10/86 | 02/03/87
902 | Empower to Enter Upon Private Property | 02/10/86 | 02/03/87
Calaveras County Air Pollution Control District
109 | Penalty | 06/30/72 | 09/22/72
216 | Enforcement | 10/13/77 | 11/07/78
324 | Penalty | 10/13/77 | 11/07/78
402 | Authority to Inspect | 10/13/77 | 11/07/78
602 | Permit Fee Schedules (1 to 6) | 10/13/77 | 11/07/78
603 | Analysis Fees | 10/13/77 | 11/07/78
604 | Technical Reports | 10/13/77 | 11/07/78
Colusa County Air Pollution Control District
1.4 | Enforcement | 06/30/72 | 09/22/72
2.13 | Appeal Fee | 06/30/72 | 09/22/72
6.11 | Enforcement | 06/30/72 | 09/22/72
6.12 | Penalty | 06/30/72 | 09/22/72
El Dorado County Air Pollution Control District
El Dorado County
216 | Enforcement | 11/04/77 | 11/06/78
323 | Enforcement Responsibility | 04/10/75 | 06/14/78
324 | Penalty | 11/04/77 | 11/06/78
402 | Authority to Inspect | 11/04/77 | 11/06/78
601 | Analysis Fees | 04/10/75 | 06/14/78
602 | Technical Reports—Charges for | 04/10/75 | 06/14/78
Lake Tahoe Air Basin
Reg. 6 | Fees (Rules 601 to 613) | 08/15/80 | 05/27/82
Reg. 8 | Enforcement (Rules 801 to 804) | 05/23/79 | 05/18/81
Mountain Counties Air Basin
226 | Enforcement | 10/27/83 | 05/03/84
318 | Enforcement Responsibility | 10/23/81 | 05/27/82
319 | Penalty | 10/23/81 | 05/27/82
509 | Authority to Inspect | 04/17/80 | 05/27/82
Reg. 6 | Fees (Rules 601 to 608) | 08/15/80 | 05/27/82
Reg. 6 | Fees (Rules 609 to 612) | 04/11/83 | 11/18/83
Feather River Air Quality Management District—Sutter County
1.4 | Enforcement | 02/25/80 | 01/26/82
2.20 | Payment of Order Charging Costs | 06/30/72 | 09/22/72
Reg. 8 | Penalties and Abatement (Rules 8.0 to 8.2) | 01/28/81 | 04/12/82
Reg. 9 | Enforcement Procedure (Rules 9.0 to 9.4) | 01/28/81 | 04/12/82
Yuba County
Reg. 7 | Fees (Rules 7.0 to 7.1) | 10/15/79 | 01/26/82
8.0 | Penalties | 03/30/81 | 04/12/82
8.1 | Arrest, Notice to Appear | 10/15/79 | 01/26/82
8.2 | Orders for Abatement | 03/30/81 | 04/12/82
Reg. 9 | Enforcement Procedures (Rules 9.0 to 9.4) | 03/30/81 | 04/12/82
Glenn County Air Pollution Control District
3 | Enforcement | 11/03/80 | 01/26/82
3.1 | Right of Entry | 01/10/75 | 08/22/77
151 | Hearing Transcript Cost | 06/30/72 | 09/22/72
152 | Analysis Fees | 11/04/77 | 09/14/78
153 | Technical Reports and Regulations: Charges for | 06/30/72 | 09/22/72
154 | Authorization to Construct Fees | 11/04/77 | 09/14/78
155 | Permit to Operate Fee Schedules (1 to 7) | 01/10/75 | 05/11/77
Great Basin Unified Air Pollution Control District
105 | Arrests and Notices to Appear | 04/21/76 | 06/06/77
300 | Permit Fees | 05/28/81 | 04/13/82
301 | Permit Fee Schedules (1 to 7) | 10/23/81 | 04/13/82
302 | Analysis Fees | 04/21/76 | 06/06/77
303 | Technical Reports—Charges For | 04/21/76 | 06/06/77
Imperial County Air Pollution Control District
104 | Violations | 11/04/77 | 08/11/78
105 | Enforcement | 06/09/87 | 02/03/89
106 | Abatement | 11/04/77 | 08/11/78
108 | Inspections | 06/09/87 | 02/03/89
Reg. 3 | Fees (Rules 301, 302, 305, 306, and 307) | 10/23/81 | 05/27/82
Reg. 3 | Fees (Rule 303) | 11/04/77 | 08/11/78
Reg. 3 | Fees (Rule 304) | 10/15/79 | 01/27/81
706 | Penalty Clause | 10/15/79 | 01/27/81
Kern County Air Pollution Control District—Southeast Desert
104 | Enforcement | 11/10/76 | 03/22/78
107 | Inspections | 06/30/72 | 09/22/72
109 | Penalty | 06/30/72 | 9/22/72
110 | Arrests and Notices to Appear | 12/15/80 | 07/06/82
Reg. 3 | Fees (Rules 301 and 305) | 07/30/81 | 07/06/82
Reg. 3 | Fees (Rules 301.1 and 302, Schedule 9) | 07/19/83 | 02/01/84
Reg. 3 | Fees Rule 302 (Schedules 1 to 8) | 07/30/81 | 07/06/82
Reg. 3 | Fees (Rules 303 and 304) | 06/30/72 | 09/22/72
422 | New Source Performance Standards | 07/22/75 | 08/22/77
423 | Emission Standards for Hazardous Air Pollutants | 07/22/75 | 08/22/77
Lake County Air Quality Management District
531 | Credentials for Entry | 02/10/77 | 08/04/78
660 | Renewal Fees | 05/23/79 | 01/27/81
660.1 | Permit Fee Penalty | 08/06/82 | 11/10/82
660.2 | Cancellation or Denial | 08/06/82 | 11/10/82
660.3 | Miscellaneous Charges | 08/06/82 | 11/10/82
Ch. 7 | Penalties (Rules 900 and 902) | 04/11/83 | 11/18/83
Ch. 7 | Penalties (Rule 901) | 02/10/77 | 08/04/78
1500 | Enforcement | 02/10/77 | 08/04/78
Lassen County Air Pollution Control District
1.4 | Enforcement | 07/25/73 | 02/10/77
Reg. 3 | Fees (Rules 3.2, 3.3 (Schedules 1 to 6), 3.4, and 3.5) | 07/25/73 | 02/10/77
Mariposa County Air Pollution Control District
17 | Penalty | 06/30/72 | 09/22/72
216 | Enforcement | 06/06/77 | 08/16/78
402 | Authority to Inspect | 06/06/77 | 08/16/78
Mendocino County Air Quality Management District
340 | Technical Report Charges | 11/10/76 | 11/07/78
500 | Enforcement | 04/19/84 | 12/05/84
520 | Civil Penalties | 04/19/84 | 12/05/84
2-502.1 | Penalties | 04/19/84 | 12/05/84
2-502.2 | Penalties | 12/03/84 | 05/09/85
Part X | Paragraph 3, Permit Fees | 02/21/72 | 05/31/72
Modoc County Air Pollution Control District
1.4 | Enforcement | 06/30/72 | 09/22/72
Mojave Desert Air Quality Management District
Riverside County
105 | Authority to Arrest | 11/04/77 | 12/21/78
Reg. 3 | Fees, Rules 301 and 42 | 06/06/77 | 09/08/78
Reg. 3 | Fees, Rules 43 and 44 | 06/30/72 | 09/22/72
San Bernardino County
105 | Authority to Arrest | 03/26/90 | 11/27/90
Reg. 3 | Fees, Rules 40, 42, 43, and 44 | 02/21/72 | 05/31/72
Southern California APCD
105 | Authority to Arrest | 04/21/76 | 06/14/78
Monterey Bay Unified Air Pollution Control District
104 | Arrests and Notices to Appear | 02/06/85 | 07/13/87
Reg. 3 | Fees (Rules 302 and 303) | 10/23/74 | 10/27/77
Reg. 3 | Fees (Rule 301, Schedules I to V) | 02/03/83 | 08/09/85
North Coast Unified Air Quality Management District
500 | Enforcement | 03/14/84 | 12/05/84
520 | Civil Penalties | 03/14/84 | 12/05/84
2-502 | Penalties | 07/10/84 | 01/29/85
Northern Sierra Air Quality Management District
223 | Enforcement | 10/28/96 | 09/16/97
Nevada County
105 | Arrest Without Warrant; Citation Procedure | 04/10/75 | 06/14/78
402 | Authority to Inspect | 06/06/77 | 09/14/78
Reg. 6 | Fees (Rules 601 and 602) | 04/10/75 | 06/14/78
41 | Analysis Fees | 02/21/72 | 05/31/72
Plumas County
3 | Penalties for Violations | 06/30/72 | 09/22/72
4 | Civil Penalties | 06/30/72 | 09/22/72
40 | Permit Fees | 06/30/72 | 09/22/72
509 | Authority to Inspect | 06/22/81 | 06/18/82
Sierra County
509 | Authority to Inspect | 06/22/81 | 06/18/82
46 | General Enforcement | 02/21/72 | 05/31/72
50 | Field Inspection | 02/21/81 | 05/31/72
618 | Hearing Board Fees | 05/23/79 | 01/25/82
Northern Sonoma County Air Pollution Control District
42 | Analysis Fees | 06/30/72 | 09/22/72
100 | Penalties for Violations | 06/30/72 | 09/22/72
500 | Enforcement | 10/16/85 | 04/17/87
520 | Civil Penalties | 10/16/85 | 04/17/87
Placer County Air Pollution Control District
105 | Civil Action | 01/10/75 | 06/14/78
402 | Authority to Inspect | 10/13/77 | 11/15/78
40 | Hearing Board Fees | 02/21/72 | 05/31/72
42 | Technical Reports, Charges for | 02/21/72 | 05/31/72
Lake Tahoe Air Basin
Reg. 8 | Enforcement (Rules 801 to 804) | 10/13/77 | 11/15/78
Mountain Counties Air Basin
801 | Enforcement | 10/13/77 | 11/15/78
802 | Authority to Arrest | 10/13/77 | 11/15/78
803 | Penalties, paragraph A | 2/10/86 | 2/3/87
803 | Penalties, paragraphs B & C | 10/13/77 | 11/15/78
804 | Order for Abatement | 10/13/77 | 11/15/78
Sacramento Valley Air Basin
603 | Analysis Fees | 10/13/77 | 11/15/78
604 | Renewal Fee | 10/13/77 | 11/15/78
605 | Exemptions to Rule 604 | 10/13/77 | 11/15/78
| Fee Schedules (1 to 5) | 10/13/77 | 11/15/78
Reg. 8 | Enforcement (Rules 801 to 804) | 10/13/77 | 11/15/78
San Diego County Air Pollution Control District
5 | Authority to Arrest | 4/21/76 | 5/11/77
San Joaquin Valley Unified Air Pollution Control District
Fresno County
104 | Enforcement | 6/30/72 | 9/22/72
105 | Order of Abatement | 6/30/72 | 9/22/72
107 | Inspections | 6/30/72 | 9/22/72
109 | Penalty | 6/30/72 | 9/22/72
111 | Arrests and Notice to Appear | 6/4/86 | 4/10/89
301 | Permit Fee | 4/11/83 | 11/18/83
302 | Permit Fee Schedules | 10/15/79 | 12/9/81
303 | Analysis Fee Schedules | 6/30/72 | 9/22/72
304 | Technical Reports-Charges for | 6/30/72 | 9/22/72
422 | New Source Performance Standards | 2/10/76 | 8/22/77
423 | Emission Standards for Hazardous Air Pollutants | 2/10/76 | 8/22/77
Kern County
104 | Enforcement | 11/10/76 | 3/22/78
107 | Inspections | 6/30/72 | 9/22/72
109 | Penalty | 6/30/72 | 9/22/72
110 | Arrests and Notice to Appear | 12/15/80 | 7/6/82
301 | Permit Fee | 7/30/81 | 7/6/82
301.1 | Banking Certificate Fees | 7/19/83 | 2/1/84
302 | Permit Fee Schedules | 7/19/83 | 2/1/84
303 | Analysis Fee Schedules | 6/30/72 | 9/22/72
304 | Technical Reports-Charges for | 6/30/72 | 9/22/72
422 | New Source Performance Standards | 7/22/75 | 8/22/77
423 | Emission Standards for Hazardous Air Pollutants | 7/22/75 | 8/22/77
Kings County
104 | Enforcement | 11/4/77 | 8/4/78
107 | Inspections | 7/25/73 | 8/22/77
109 | Penalty | 6/30/72 | 9/22/72
110 | Arrests and Notice to Appear | 11/4/77 | 8/4/78
301 | Permit Fee | 10/15/79 | 12/9/81
Madera County
105 | Enforcement | 4/11/83 | 11/18/83
108 | Inspections | 4/11/83 | 11/18/83
111 | Penalty | 4/11/83 | 11/18/83
112 | Arrests and Notice to Appear | 2/7/89 | 4/16/91
301 | Permit Fees | 4/11/83 | 11/18/83
302 | Permit Fee Schedules | 4/11/83 | 11/18/83
303 | Emission Analysis Fees | 4/11/83 | 11/18/83
304 | Report Fees | 4/11/83 | 11/18/83
Merced County
104 | Enforcement | 7/19/83 | 2/1/84
107 | Inspections | 6/30/72 | 9/22/72
112 | Penalty | 10/19/84 | 1/29/85
113 | Arrests and Notices to Appear | 7/19/83 | 2/1/84
301 | Permit Fees (Paragraphs c to g, i, and j) | 6/30/72 | 9/22/72
301 | Permit Fees (Paragraphs: a, b, and h) | 6/30/72 | 9/22/72
302 | Permit Fee Schedules | 8/2/76 | 6/14/78
303 | Analysis Fees | 6/30/72 | 9/22/72
304 | Technical Reports—Charges for | 6/30/72 | 9/22/72
San Joaquin County
104 | Enforcement | 11/10/76 | 10/4/77
105 | Order of Abatement | 11/10/76 | 10/4/77
107 | Inspections | 6/30/72 | 9/22/72
109 | Penalty | 6/30/72 | 9/22/72
112 | Arrests and Notice to Appear | 11/10/76 | 10/4/77
422 | New Source Performance Standards | 02/10/76 | 08/22/77
423 | Emission Standards for Hazardous Air Pollutants | 02/10/76 | 08/22/77
Stanislaus County
104 | Enforcement | 08/02/76 | 08/22/77
105 | Order of Abatement | 08/02/76 | 08/22/77
107 | Inspections | 06/30/72 | 09/22/72
109 | Penalty | 08/30/83 | 05/03/84
112 | Arrests and Notice to Appear | 08/02/76 | 08/22/77
422 | New Source Performance Standards | 08/02/76 | 08/22/77
Emission Standards for Hazardous Air Pollutants | 08/02/76 | 08/22/77 |
Tulare County
104 | Enforcement | 05/20/82 | 11/10/82
107 | Inspections | 06/30/72 | 09/22/72
109 | Penalty | 06/30/72 | 09/22/72
110 | Arrests and Notice to Appear | 06/09/87 | 02/03/89
San Luis Obispo County Air Pollution Control District
110 | Enforcement | 11/10/76 | 08/04/78
111 | Arrests and Notice to Appear | 11/10/76 | 08/04/78
Santa Barbara County Air Pollution Control District
210 | Fees (Paragraphs A to D-5 and G to L) | 12/15/80 | 06/18/82
210 | Fees (Paragraphs D-6 to D-8 and E to F) | 11/08/82 | 06/01/83
402 | Enforcement | 05/23/79 | 05/18/81
Shasta County Air Quality Management District
2-11 | Fees | 05/20/82 | 11/10/82
3-7 | Enforcement | 07/19/74 | 08/22/77
Siskiyou County Air Pollution Control District
1.4 | Enforcement | 03/26/90 | 11/04/96
3.1 | Hearing Board Fees | 02/21/72 | 05/31/72
3.2 | Permit Fees | 02/21/72 | 05/31/72
3.3 | Schedule of Fees | 02/21/72 | 05/31/72
South Coast Air Quality Management District
302 | Fees for Publication | 02/03/83 | 11/18/83
304 | Analysis Fees | 02/03/83 | 10/19/84
Los Angeles County
45 | Permit Fees—Open Burning | 07/25/73 | 09/08/78
120 | Fees | 06/30/72 | 09/22/72
Orange County
120 | Fees | 02/21/72 | 05/31/72
Southern California APCD
105 | Authority to Arrest | 04/21/76 | 06/14/78
Tehama County Air Pollution Control District
1.3 | Enforcement | 12/15/80 | 04/12/82
2.9 | Variance and Permit Fees | 12/15/80 | 04/12/82
Tuolumne County Air Pollution Control District
216 | Enforcement | 02/10/77 | 12/06/79
323 | Enforcement Responsibility | 02/10/77 | 12/06/79
324 | Penalty | 02/10/77 | 12/06/79
509 | Authority to Inspect | 10/23/81 | 05/27/82
Ventura County Air Pollution Control District
9 | Arrest Authority | 05/23/79 | 06/18/82
72-72.8 | New Source Performance Standards (various sources) | 11/03/75 | 08/15/77
72.9-72.10 | New Source Performance Standards (various sources) | 11/10/76 | 08/15/77
73-73.4 | National Emission Standards for Hazardous Air Pollutants (various sources) | 11/10/76 | 08/15/77
Yolo-Solano Air Quality Management District
1.4 | Enforcement | 06/22/78 | 01/29/79
1.7 | Arrest, Notice to Appear | 02/21/72 | 05/31/72
2.18 | Payment of Order Charging Costs | 02/21/72 | 05/31/72

III. Proposed action, public comment and final action

EPA has reviewed the rules listed in the tables above and determined that they were previously approved into the applicable California SIP in error. Deletion of these rules will not relax the applicable SIP and is consistent with the Act. Therefore, EPA is proposing to delete these rules under section 110(k)(6) of the Act, which provides EPA authority to remove these rules without additional State submission. We will accept comments from the public on this proposal for the next 30 days. Unless we receive convincing new information during the comment period, we intend to publish a final action that will delete these rules from the federally enforceable SIP.

IV. Administrative Requirements

Under Executive Order 12866 (58 FR 51735, October 4, 1993), this proposed action is not a “significant regulatory action” and therefore is not subject to review by the Office of Management and Budget. For this reason, this proposed action is also not subject to Executive Order 32111, “Actions Concerning Regulations That Significantly Affect Energy Supply, Distribution, or Use” (66 FR 28355, May 22, 2001). This proposed action imposes no additional requirements beyond those imposed by state law. Accordingly, the Administrator certifies that this proposed rule will not have a significant economic impact on a substantial number of small entities under the Regulatory Flexibility Act (5 U.S.C. 601 et seq.). Because this proposed rule does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it does not alter the relationship or the distribution of power and responsibilities established in the Clean Air Act. This proposed rule also is not subject to Executive Order 13045 (62 FR 19885, April 23, 1997), because it is not economically significant.

In this proposed rule, EPA is not developing or adopting a technical standard. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This proposed rule does not impose an information collection burden under the provisions of the Paperwork Reduction Act of 1995 (44 U.S.C. 3501 et seq.).

List of Subjects in 40 CFR Part 52

Environmental protection, Air pollution control, Reporting and recordkeeping requirements.

Authority: 42 U.S.C. 7401 et seq.

Dated: August 31, 2001.
Sally Seymour,
Acting Regional Administrator, Region IX.

[FR Doc. 01-22999 Filed 9-12-01; 8:45 am]

BILLING CODE 6560-50-P